SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before May 30, 2000.

ADDRESSES: Send all comments regarding whether this information collection is necessary for the proper performance of the function of the agency, whether the burden estimate is accurate, and if there are ways to minimize the estimated burden and enhance the quality of the collection, to Cynthia Pitts, Program Analyst, Office of Disaster Assistance, Small Business Administration, 409 3rd Street, S.W., Suite 6050.

FOR FURTHER INFORMATION CONTACT: Cynthia Pitts, Program Analyst, 202-205-6098 or Curtis B. Rich, Management Analyst, 202-205-7030.

SUPPLEMENTARY INFORMATION: Title: “Disaster Home Loan Application”.

Form No's: 5C and 739.

Description of Respondents: Applicant's Requesting SBA Disaster Home Loan.

Annual Responses: 56,418.

Annual Burden: 89,140.

ADDRESSES: Send all comments regarding whether this information collection is necessary for the proper performance of the function of the agency, whether the burden estimate is accurate, and if there are ways to minimize the estimated burden and enhance the quality of the collection, to Linda M. Roberts, Director, Office of Security Operations, Small Business Administration, 409 3rd Street, S.W., Suite 5600.

FOR FURTHER INFORMATION CONTACT: Linda M. Roberts, Director, 202-205-6223 or Curtis B. Rich, Management Analyst, 202-205-7030.

SUPPLEMENTARY INFORMATION:

Title: “Statement of Personal History”.

Form No: 912.

Description of Respondents: Applicant's for Assistance or Temporary Employment in Disaster.

Annual Responses: 50,000.

Annual Burden: 12,500.

ADDRESSES: Send all comments regarding whether this information collection is necessary for the proper performance of the function of the agency, whether the burden estimate is accurate, and if there are ways to minimize the estimated burden and enhance the quality of the collection, to James Hammersley, Director, Office of Secondary Market & 504, Small Business Administration, 409 3rd Street, S.W., Suite 8300 .

FOR FURTHER INFORMATION CONTACT:

James Hammersley, Director, 202-205-7505 or Curtis B. Rich, Management Analyst, 202-205-7030.

SUPPLEMENTARY INFORMATION:

Title: “7(a) Loan Closing Forms”.

Form No's: 147, 148, 159, 160, 160A, 529B, 928 and 1059.

Description of Respondents: SBA Loan Applicants.

Annual Responses: 45,000.

Annual Burden: 135,000.

Jacqueline White,
Chief, Administrative Information Branch.

[FR Doc. 00-7845 Filed 3-29-00; 8:45 am]

BILLING CODE 8025-01-P